DEPARTMENT OF HOMELAND SECURITY

Coast Guard

33 CFR Part 117

[Docket No. USCG-2025-0464]

RIN 1625-AA09

Drawbridge Operation Regulation; Atlantic Intracoastal Waterway, Fort Lauderdale, FL

AGENCY: Coast Guard, DHS.

ACTION: Notice of proposed rulemaking.

SUMMARY: The Coast Guard proposes changing the operating schedule that governs the SE 17th Street (Brooks Memorial) Bridge, across the Atlantic Intracoastal Waterway (AICW), mile 1065.9, at Fort Lauderdale, FL. The City of Fort Lauderdale requested the Coast Guard consider changing the operating regulation by placing additional opening restrictions during weekday rush hour periods to assist with vehicle congestion. We invite your comments on this proposed rulemaking.

DATES: Comments and related material must reach the Coast Guard on or before August 25, 2025.

ADDRESSES: You may submit comments identified by docket number USCG-2025-0464 using Federal Decision-Making Portal at https://www.regulations.gov.

See the “Public Participation and Request for Comments” portion of the SUPPLEMENTARY INFORMATION section below for instructions on submitting comments. This notice of proposed rulemaking with its plain-language, 100-word-or-less proposed rule summary will be available in this same docket.

FOR FURTHER INFORMATION CONTACT: If you have questions on this proposed rule, call or email Ms. Jennifer Zercher, Bridge Management Specialist, Seventh Coast Guard District; telephone 571-607-5951, email Jennifer.N.Zercher@uscg.mil.

SUPPLEMENTARY INFORMATION:

I. Table of Abbreviations

CFR Code of Federal Regulations

DHS Department of Homeland Security

FR Federal Register

OMB Office of Management and Budget

NPRM Notice of Proposed Rulemaking

§ Section

U.S.C. United States Code

FL Florida

TD Temporary Deviation

AICW Atlantic Intracoastal Waterway

II. Background, Purpose and Legal Basis

SE 17th Street (Brooks Memorial) Bridge across the AICW, mile 1065.9, at Fort Lauderdale, FL, is a bascule bridge with a 55-foot vertical clearance at mean high water in the closed position. The normal operating schedule for the bridge is set forth in 33 CFR 117.261(bb)(8).

The City of Fort Lauderdale requested the Coast Guard consider additional opening restrictions during weekday rush hour periods to assist with vehicle congestion. The drawbridge currently opens twice an hour for navigation. This proposed change adds additional opening restrictions during weekday rush hour periods.

This NPRM will run simultaneously with a Test Deviation, under the same name and docket number. Both documents can be found at https://www.regulations.gov and comments can be made to either document.

III. Discussion of Proposed Rule

The current operating schedule allows the SE 17th Street (Brooks Memorial) Bridge to open at the top and bottom of the hour for marine traffic. Under this proposed rule, the bascule bridge will open once an hour, at the top of the hour, Monday through Friday during pre-designated times. Vehicle traffic across the bridge is at or nearing roadway design capacity during certain times of the day. The Coast Guard is proposing to limit drawbridge openings during high vehicle traffic times to assist with vehicle congestion while requesting state and local agencies consider alternate mitigation measures to improve traffic flow and roadway congestion. The drawbridge will open twice an hour at all other times. The specific proposed operating schedule is this: The draw shall open on the hour and half-hour; except that from 6:50 a.m. to 9:10 a.m. and from 3:50 p.m. to 6:10 p.m., Monday through Friday, except Federal holidays, the drawbridge shall open once an hour at the top of the hour. Vessels that can pass beneath the bridge without an opening may do so at any time. Public vessels of the United States, tugs with tows and vessels in distress may pass any time.

In addition to the proposed change to the special requirement for the SE 17th Street (Brooks Memorial) Bridge, this proposed rule will republish section 117.261 to reorganize the paragraph structure to follow current regulatory drafting requirements. See paragraph (z) of the proposed regulatory text for the proposed operating schedule for the Brooks Memorial Bridge.

IV. Regulatory Analyses

We developed this proposed rule after considering numerous statutes and Executive Orders related to rulemaking. Below we summarize our analyses based on these statutes and Executive Orders.

A. Regulatory Planning and Review

Executive Orders 12866 and 13563 direct agencies to assess the costs and benefits of available regulatory alternatives and, if regulation is necessary, to select regulatory approaches that maximize net benefits. This proposed rule has not been designated a “significant regulatory action,” under section 3(f) of Executive Order 12866. Accordingly, the NPRM has not been reviewed by the Office of Management and Budget (OMB).

This regulatory action determination is based on the ability that vessels can still transit the bridge during the designated times and vessels able to pass without an opening may do so at any time.

B. Impact on Small Entities

The Regulatory Flexibility Act of 1980 (RFA), 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the bridge may be small entities, for the reasons stated in section IV.A above this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Public Law 104-121), we want to assist small entities in understanding this proposed rule. If the proposed rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule would call for no new collection of information under the Paperwork Reduction Act of 1995 (44 U.S.C. 3501-3520.).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule will not result in such an expenditure, we do discuss the effects of this proposed rule elsewhere in this preamble.

F. Environment

We have analyzed this rule under Department of Homeland Security Management Directive 023-01, Rev.1, associated implementing instructions, and Environmental Planning Policy COMDTINST 5090.1 (series), which guide the Coast Guard in complying with the National Environmental Policy Act of 1969 (NEPA)(42 U.S.C. 4321-4370f). The Coast Guard has determined that this action is one of a category of actions that do not individually or cumulatively have a significant effect on the human environment. This proposed rule promulgates the operating regulations or procedures for drawbridges. Normally such actions are categorically excluded from further review, under paragraph L49, of Appendix A, Table 1 of DHS Instruction Manual 023-01-001-01, Rev. 1.

Neither a Record of Environmental Consideration nor a Memorandum for the Record are required for this rule. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2025-0464 in the search box and click “Search.” Next, look for this document in the Search Results column, and click on it. Then click on the Comment option. If your material cannot be submitted using https://www.regulations.gov, contact the person in the FOR FURTHER INFORMATION CONTACT section of this document for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you go to the online docket and sign up for email alerts through the “Subscribe” option, you will be notified when comments/updates are posted, or a final rule is published.

We review all comments received, but we will only post comments that address the topic of the proposed rule. We may choose not to post off-topic, inappropriate, or duplicate comments that we receive.

Personal information. We accept anonymous comments. Comments we post to https://www.regulations.gov will include any personal information you have provided. For more about privacy and submissions in response to this document, see DHS's eRulemaking System of Records notice (85 FR 14226, March 11, 2020).

List of Subjects in 33 CFR Part 117

Bridges.

For the reasons discussed in the preamble, the Coast Guard proposes to amend 33 CFR part 117 as follows:

PART 117—DRAWBRIDGE OPERATION REGULATIONS

1. The authority citation for part 117 continues to read as follows:

Authority: 33 U.S.C. 499; 33 CFR 1.05-1; and DHS Delegation No. 00170.1, Revision No. 01.3.

2. Revise and republish § 117.261 to read as follows:

§ 117.261 Atlantic Intracoastal Waterway from St. Marys River to Key Largo.

Public vessels of the United States and tugs with tows must be passed through the drawspan of each drawbridge listed in this section at anytime.

(a) Bridge of Lions (SR A1A) Bridge, mile 777.9 at St. Augustine. The draw shall open on signal; except that, from 7 a.m. to 6 p.m. the draw need open only on the hour and half-hour; however, the draw need not open at 8 a.m., 12 noon, and 5 p.m. Monday through Friday except Federal holidays. From 7 a.m. to 6 p.m. on Saturdays, Sundays and Federal holidays the draw need only open on the hour and half-hour.

(b) George Musson (SR 44) Bridge, mile 845, at New Smyrna Beach. The draw shall open on signal, except that from 7 a.m. to 7 p.m., the draw shall open on the hour and half-hour, seven days a week.

(c) NASA Railroad Bridge, mile 876.6 at Titusville.

(1) The draw is not constantly tended.

(2) The draw is normally in the fully open position displaying flashing green lights to indicate that vessels may pass.

(3) When a train approaches the bridge, it stops and the operator initiates a command to lower the bridge. The lights go to flashing red and the draw lowers and locks, providing scanning equipment reveals nothing under the draw. The draw remains down until a manual raise command is initiated or will raise automatically 5 minutes after the intermediate track circuit is no longer occupied by a rail car.

(4) After the train has cleared, the draw opens and the lights return to flashing green.

(d) A1A North Causeway Bridge, mile 964.8 at Fort Pierce. The draw shall open on the hour and half-hour.

(e) Indiantown Road Bridge, mile 1006.2, at Jupiter. The draw shall open on the hour and half hour.

(f) Donald Ross Bridge, mile 1009.3, at North Palm Beach. The draw shall open on the hour and half-hour.

(g) PGA Boulevard Bridge, mile 1012.6, at North Palm Beach. The draw shall open on the hour and half-hour.

(h) Parker (US 1) Bridge, mile 1013.7, at Riviera Beach. The draw shall open on the quarter and three-quarter hour.

(i) Flagler Memorial (SR A1A) Bridge, mile 1021.8, at West Palm Beach.

(1) The draw will open on the quarter and three-quarter hour, except Monday through Friday (except Federal holidays) from 7:30 a.m. to 9 a.m. and from 4 p.m. to 6 p.m., the draw need only open on the quarter hour.

(2) When the Presidential Security Zone is enforced, the draw will open on the quarter and three-quarter hour, except Monday through Friday (except Federal holidays) from 7:30 a.m. to 9 a.m. and from 2:15 p.m. to 6 p.m., the draw need only open on the quarter hour.

(j) Royal Park (SR 704) Bridge, mile 1022.6, at West Palm Beach.

(1) The draw will open on the hour and half hour, except Monday through Friday (except Federal holidays) from 7:30 a.m. to 9 a.m. and from 4 p.m. to 6 p.m., the draw need only open on the half hour.

(2) When the Presidential Security Zone is enforced, the draw will open on the hour and half hour, except Monday through Friday (except Federal holidays) from 7:30 a.m. to 9 a.m. and from 2:15 p.m. to 6 p.m., the draw need only open on the half hour.

(k) Southern Boulevard (SR 80) Bridge, mile 1024.7, at West Palm Beach.

(1) The draw will open on the quarter and three-quarter hour, except Monday through Friday (except Federal holidays) from 7:30 a.m. to 9 a.m. and from 4 p.m. to 6 p.m., the draw need only open on the quarter hour.

(2) When the Presidential Security Zone is enforced, the draw may be closed without advance notice to permit uninterrupted transit of dignitaries across the bridge. At all other times the bridge shall open on the quarter and three-quarter hour, or as directed by the on-scene designated representative.

(l) East Ocean Avenue Bridge, mile 1031.0, at Lantana. The draw shall open on the hour and half-hour.

(m) Ocean Avenue Bridge, mile 1035.0, at Boynton Beach. The draw shall open on the hour and half-hour.

(n) East Atlantic Avenue (SR 806) Bridge, mile 1039.6, at Delray Beach. The draw shall open on the quarter and three-quarter-hour.

(o) Linton Boulevard Bridge, mile 1041.1, at Delray Beach. The draw shall open on the hour and half-hour.

(p) Spanish River Boulevard Bridge, mile 1044.9, at Boca Raton. The draw shall open on the hour and half-hour.

(q) East Palmetto Park Road Bridge, mile 1047.5, at Boca Raton. The draw shall open on the hour and half-hour.

(r) East Camino Real Bridge, mile 1048.2, at Boca Raton. The draw shall open on the hour, twenty minutes past the hour and forty minutes past the hour.

(s) East Hillsboro Boulevard Bridge (SR 810), mile 1050.0 at Deerfield Beach. The draw shall open on the hour and half-hour.

(t) Northeast 14th Street Bridge, mile 1055.0 at Pompano Beach. The draw shall open on the quarter-hour and three-quarter hour.

(u) East Atlantic Boulevard (SR 814) Bridge, mile 1056.0 at Pompano Beach. The draw shall open on the hour and half-hour.

(v) East Commercial Boulevard (SR 870) Bridge, mile 1059.0, at Lauderdale-by-the-Sea. The draw shall open on the hour and half-hour.

(w) East Oakland Park Boulevard Bridge, mile 1060.5 at Fort Lauderdale. The draw shall open on the quarter-hour and three-quarter hour.

(x) East Sunrise Boulevard (SR 838) Bridge, mile 1062.6, at Fort Lauderdale. The draw shall open on the hour and half-hour. On the first weekend in May, the draw need not open from 4 p.m. to 6 p.m. on Saturday and Sunday, and, on the first Saturday in May, the draw need not open from 9:45 p.m. to 10:45 p.m.

(y) East Las Olas Bridge, mile 1064 at Fort Lauderdale. The draw shall open on the quarter-hour and three-quarter hour. On the first weekend in May, the draw need not open from 4 p.m. to 6 p.m. on Saturday and Sunday, and, on the first Saturday in May, the draw need not open from 9:45 p.m. to 10:45 p.m.

(z) Southeast 17th Street (Brooks Memorial) Bridge, mile 1065.9 at Fort Lauderdale. The draw shall open on the hour and half-hour; except that from 6:50 a.m. to 9:10 a.m. and from 3:50 p.m. to 6:10 p.m., Monday through Friday, except Federal holidays, the drawbridge shall open once an hour at the top of the hour.

(aa) Dania Beach Boulevard Bridge, mile 1069.4 at Hollywood. The draw shall open on the hour and half-hour.

(bb) Sheridan Street Bridge, mile 1070.5, at Hollywood. The draw shall open on the quarter-hour and three-quarter hour.

(cc) Hollywood Beach Boulevard (SR 820) Bridge, mile 1072.2 at Hollywood. The draw shall open on the hour and half-hour.

(dd) Hallandale Beach Boulevard (SR 824) Bridge, mile 1074.0 at Hallandale Beach. The draw shall open on the quarter-hour and three-quarter hour.

(ee) Northeast 163rd Street (SR 826) Bridge, mile 1078.0 at Sunny Isles Beach. The draw shall open on signal; except that, from 7 a.m. to 6 p.m. on Monday through Friday except Federal holidays, and from 10 a.m. to 6 p.m. on Saturdays, Sundays, and Federal holidays, the draw need open only on the quarter-hour and three-quarter hour.

(ff) Broad Causeway Bridge, mile 1081.4 at Bay Harbor Islands. The draw shall open on signal; except that, from 8 a.m. to 6 p.m., the draw need open only on the quarter-hour and three-quarter hour.

(gg) West 79th Street Bridge, mile 1084.6, at Miami. The draw shall operate as follows:

(1) Monday through Friday (except on Federal holidays):

(i) 7 a.m. to 10 a.m. the draw need only open on the hour.

(ii) 10 a.m. to 4 p.m. the draw need only open on the hour and half hour.

(iii) 4 p.m. to 7 p.m. the draw need only open on the hour.

(iv) 7 p.m. to 7 a.m. the draw shall open on signal.

(2) Saturday, Sunday, and Federal holidays the draw shall open on signal.

(hh) West Venetian Causeway Bridge, mile 1088.6, at Miami. The draw shall open on signal, except that from 7 a.m. to 7 p.m. daily, including Federal holidays, the draw need only open on the hour and half hour.

Dated: June 26, 2025.
Douglas M. Schofield,
Rear Admiral, U.S. Coast Guard, Commander, Coast Guard Seventh District.

[FR Doc. 2025-13882 Filed 7-23-25; 8:45 am]

BILLING CODE 9110-04-P